NUCLEAR REGULATORY COMMISSION

Advisory Committee on the Medical Uses of Isotopes: Meeting Notice

AGENCY: Nuclear Regulatory Commission.

ACTION: Notice of meeting.

SUMMARY: The U.S. Nuclear Regulatory Commission (NRC) will convene a teleconference meeting of the Advisory Committee on the Medical Uses of Isotopes (ACMUI) on July 16, 2018, to discuss the draft report of the ACMUI Subcommittee on Training and Experience Requirements for All Modalities. This report will include the subcommittee's comments on the NRC staff's evaluation of the training and experience requirements for different categories of radiopharmaceuticals in Title 10 of the Code of Federal Regulations, part 35, “Medical Use of Byproduct Material,” Subpart E, “Unsealed Byproduct Material—Written Directive Required.” Meeting information, including a copy of the agenda and handouts, will be available at http://www.nrc.gov/reading-rm/doc-collections/acmui/meetings/2018.html. The agenda and handouts may also be obtained by contacting Ms. Maryann Ayoade using the information below.

DATES: The teleconference meeting will be held on Monday, July 16, 2018, 2:00 p.m. to 4:00 p.m. Eastern Time.

Public Participation: Any member of the public who wishes to participate in the teleconference should contact Ms. Ayoade using the contact information below or may register for the GoToWebinar at https://attendee.gotowebinar.com/register/2201638285137455618.

Contact Information: Maryann Ayoade, email: Maryann.Ayoade@nrc.gov, telephone: (301) 415-0862.

Conduct of the Meeting

Dr. Christopher Palestro, ACMUI Chairman, will preside over the meeting. Dr. Palestro will conduct the meeting in a manner that will facilitate the orderly conduct of business. The following procedures apply to public participation in the meeting:

1. Persons who wish to provide a written statement should submit an electronic copy to Ms. Ayoade at the contact information listed above. All submittals must be received by July 11, 2018, three business days prior to the meeting, and must pertain to the topic on the agenda for the meeting.

2. Questions and comments from members of the public will be permitted during the meetings, at the discretion of the Chairman.

3. The draft transcript and meeting summary will be available on the ACMUI's website http://www.nrc.gov/reading-rm/doc-collections/acmui/meetings/2018.html on or about August 27, 2018.

This meeting will be held in accordance with the Atomic Energy Act of 1954, as amended (primarily Section 161a); the Federal Advisory Committee Act (5 U.S.C. App); and the Commission's regulations in Title 10 of the Code of Federal Regulations, part 7, “Advisory Committees.”

Dated at Rockville, Maryland, this 4th day of June, 2018.
For the Nuclear Regulatory Commission.
Russell E. Chazell,
Federal Advisory Committee Management Officer.

[FR Doc. 2018-12269 Filed 6-6-18; 8:45 am]

BILLING CODE 7590-01-P